DEPARTMENT OF EDUCATION

[CFDA Numbers 84.215N; 84.215P]

Reopening Notice: Promise Neighborhoods Program—Implementation Grant Competition; Promise Neighborhoods Program—Planning Grant Competition

AGENCY: Office of Innovation and Improvement, Department of Education.

ACTION: Notice.

SUMMARY: The Department of Education (Department) reopens the competition for transmittal of applications for new awards for fiscal year (FY) 2011 under the Promise Neighborhoods Program Implementation and Planning grant competitions. The Department takes this action to allow more time for the preparation and submission of applications by prospective eligible applicants affected by the severe storms, flooding, property damage, and loss of electrical power that occurred as a result of Hurricane Irene on the East Coast of the United States, beginning on August 26, 2011, and continuing through the publication of this notice. The reopening of the competitions is intended to help affected eligible applicants compete fairly with other eligible applicants under this competition. Due to the widespread impact of Hurricane Irene, the competition is reopened to all eligible applicants.

DATES: The revised deadlines for transmitting applications under the Promise Neighborhoods Program Implementation and Planning grant competitions are listed in the chart entitled “List of Affected Programs” in the SUPPLEMENTARY INFORMATION section of this notice.

Deadline for Intergovernmental Review: The deadline date for Intergovernmental Review under Executive Order 12372 is changed from November 3, 2011 to November 10, 2011.

FOR FURTHER INFORMATION CONTACT: The addresses and telephone numbers for obtaining applications for or information about the Promise Neighborhoods Program Implementation and Planning grant competitions are in the notice inviting applications for these competitions. We have also provided the date and Federal Register citations of the notice inviting applications for these competitions in the chart entitled “List of Affected Programs” in the SUPPLEMENTARY INFORMATION section of this notice.

If you use a telecommunications device for the deaf (TDD), call the Federal Relay Service (FRS), toll free, at 1-800-877-8339.

Individuals with disabilities can obtain this document in an accessible format (e.g., braille, large print, audiotape, or computer diskette) by contacting the person listed in the notice inviting applications for these programs.

SUPPLEMENTARY INFORMATION:

Eligibility: On July 6, 2011, we published in the Federal Register two notices inviting applications for new awards for FY 2011 under the Promise Neighborhoods Program—one for the Planning grant competition and one for the Implementation grant competition. We are reopening these competitions and establishing new dates for the transmittal deadline for applications and the deadline for intergovernmental review for each of these competitions.

The extension of the application deadline dates in this notice applies to all eligible applicants under the FY 2011 Promise Neighborhoods Program Implementation and Planning grant competitions. We note that under the Promise Neighborhoods Implementation and Planning grant competitions, the eligible applicants are nonprofit organizations that meet the definition of a nonprofit under CFR 77.1(c), which may include a faith-based nonprofit organization; an institute of higher education as defined by section 101(a) of the Higher Education Act of 1965, as amended; and an Indian Tribe (as defined in the original notices inviting applications published in the Federal Register on July 6, 2011).

The following is information about the competitions covered by this notice:

List of Affected Programs
CFDA No. and name | Publication date and Federal Register citation | Original deadline for transmittal of applications | Revised deadline for transmittal of applications | Original deadline for inter-governmental review | Extended deadline for inter-governmental review
84.215N: Promise Neighborhoods Program—Implementation | 7/6/2011 76 FR 39615 | 9/06/2011 | 9/13/2011 | 11/03/2011 | 11/10/2011
84.215P: Promise Neighborhoods Program—Planning | 7/06/2011 76 FR 39630 | 9/06/2011 | 9/13/2011 | 11/03/2011 | 11/10/2011

Electronic Access to This Document

The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: September 6, 2011.
James H. Shelton, III,
Assistant Deputy Secretary for Innovation and Improvement.

[FR Doc. 2011-23121 Filed 9-8-11; 8:45 am]

BILLING CODE 4000-01-P